DEPARTMENT OF TRANSPORTATION

National Highway Traffic Safety Administration

[Docket No. NHTSA 2003-16463; Notice 2]

Hankook Tire America Corp., Grant of Petition for Decision of Inconsequential Noncompliance

Hankook Tire America Corp. (Hankook Tire) has determined that certain tires it produced in 2003 do not comply with S4.3(e) of 49 CFR 571.109, Federal Motor Vehicle Safety Standard (FMVSS) No. 109, New pneumatic tires. Pursuant to 49 U.S.C. 30118(d) and 30120(h), Hankook Tire has petitioned for a determination that this noncompliance is inconsequential to motor vehicle safety and has filed an appropriate report pursuant to 49 CFR Part 573, “Defect and Noncompliance Reports.” Notice of receipt of the petition was published, with a 30-day comment period, on December 3, 2003, in the Federal Register (68 FR 67739). NHTSA received no comments.

A total of approximately 3,049 tires are involved. These are 215/50R 17 91H 04PR H405 tires, which Hankook Tire produced during DOT weeks 16 through 21 and DOT weeks 24 and 25 of the year 2003. They have the nylon ply number mismarked on one side of the tire, specifically on the DOT serial side. The incorrect marking on the DOT serial side is “2 steel + 2 polyester + 2 nylon” and the correct marking on the opposite side is “2 steel + 2 polyester + 1 nylon.” Paragraph S4.3 of FMVSS No. 109 requires “each tire shall have permanently molded into or onto both sidewalls * * * (e) Actual number of plies in the sidewall, and the actual number of plies in the tread area if different.”

Hankook Tire believes that the noncompliance is inconsequential to motor vehicle safety, and that no corrective action is warranted. The petitioner states that first, the affected tires meet all requirements of 49 CFR 571.109 except for the markings pertaining to S4.3(e), and second, the markings on the side of the tire opposite the DOT serial side are correct.

The agency agrees with Hankook Tire's statement that the incorrect markings do not present a serious safety concern. The agency believes that the true measure of inconsequentiality to motor vehicle safety in this case is that there is no effect of the noncompliance on the operational safety of vehicles on which these tires are mounted. The safety of people working in the tire retread, repair, and recycling industries must also be considered.

Although tire construction affects the strength and durability, neither the agency nor the tire industry provides information relating tire strength and durability to the number of plies and types of ply cord material in the tread and sidewall. Therefore, tire dealers and customers should consider the tire construction information along with other information such as the load capacity, maximum inflation pressure, and tread wear, temperature, and traction ratings, to assess performance capabilities of various tires. In the agency's judgment, the incorrect labeling of the tire construction information will have an inconsequential effect on motor vehicle safety because most consumers do not base tire purchases or vehicle operation parameters on the number of plies in the tire.

The agency believes the noncompliance will have no measurable effect on the safety of the tire retread, repair, and recycling industries. The use of steel cord construction in the sidewall and tread is the primary safety concern of these industries. In this case, the steel used in the construction of the tires is properly labeled.

In addition, the tires are certified to meet all the performance requirements of FMVSS No. 109. Also, the markings on the side of the tire opposite the DOT serial side are correct. All other informational markings as required by FMVSS No. 109 are present. Hankook Tire has corrected the problem.

In consideration of the foregoing, NHTSA has decided that the petitioner has met its burden of persuasion that the noncompliance described is inconsequential to motor vehicle safety. Accordingly, Hankook Tire's petition is granted and the petitioner is exempted from the obligation of providing notification of, and a remedy for, the noncompliance.

Authority: (49 U.S.C. 30118, 30120; delegations of authority at CFR 1.50 and 501.8)

Kenneth N. Weinstein,
Associate Administrator for Enforcement.

[FR Doc. 04-5745 Filed 3-12-04; 8:45 am]

BILLING CODE 4910-59-P